FEDERAL ACCOUNTING STANDARDS ADVISORY BOARD

Notice of Issuance of Federal Financial Accounting Technical Release 19, Rescission of Technical Release 8

AGENCY: Federal Accounting Standards Advisory Board.

ACTION: Notice.

Pursuant to 31 U.S.C. 3511(d), the Federal Advisory Committee Act (Pub. L. 92-463), as amended, and the FASAB Rules of Procedure, as amended in October 2010, notice is hereby given that the Federal Accounting Standards Advisory Board (FASAB) has issued Federal Financial Accounting Technical Release (TR) 19, Rescission of Technical Release 8.

The TR is available on the FASAB website at http://www.fasab.gov/accounting-standards/. Copies can be obtained by contacting FASAB at (202) 512-7350.

FOR FURTHER INFORMATION CONTACT: Ms. Wendy M. Payne, Executive Director, 441 G Street NW, Suite 1155, Washington, DC 20548, or call (202) 512-7350.

Authority: Federal Advisory Committee Act, Pub. L. 92-463.

Dated: January 15, 2019.
Wendy M. Payne,
Executive Director.

[FR Doc. 2019-00500 Filed 1-30-19; 8:45 am]

BILLING CODE 1610-02-P